DEPARTMENT OF COMMERCE

International Trade Administration

North American Free Trade Agreement (NAFTA), Article 1904; Binational Panel Reviews: Notice of Completion of Panel Review

AGENCY: United States Section, NAFTA Secretariat, International Trade Administration, Department of Commerce.

ACTION: Notice of Completion of Panel Review in the matter of Certain Fabricated Structural Steel from Mexico: Final Affirmative Countervailing Duty Determination (Secretariat File Number: USA-MEX-2020-1904-03).

SUMMARY: The NAFTA Secretariat did not receive any timely complaints in advance of the filing deadline on April 1, 2020 in the above referenced dispute. In addition, the Government of Mexico submitted a withdrawal of request for panel review on March 31, 2020 in this matter. As a result, and pursuant to Rule 71(3) of the NAFTA Rules of Procedure for Article 1904 Binational Panel Reviews (Rules), the NAFTA dispute USA-MEX-2020-1904-03 has been terminated effective April 2, 2020.

FOR FURTHER INFORMATION CONTACT: Paul E. Morris, United States Secretary, NAFTA Secretariat, Room 2061, 1401 Constitution Avenue NW, Washington, DC 20230, (202) 482-5438.

SUPPLEMENTARY INFORMATION: Chapter 19 of Article 1904 of NAFTA provides a dispute settlement mechanism involving trade remedy determinations issued by the government of the United States, the government of Canada, and the government of Mexico. There are established Rules, which were adopted by the three governments and require Notices of Completion of Panel Review to be published in accordance with Rule 78. For the complete Rules, please see https://www.nafta-sec-alena.org/Home/Texts-of-the-Agreement/Rules-of-Procedure/Article-1904.

Paul E. Morris,
U.S. Secretary, NAFTA Secretariat.

[FR Doc. 2020-07555 Filed 4-9-20; 8:45 am]

BILLING CODE 3510-GT-P